DEPARTMENT OF COMMERCE

National Oceanic and Atmospheric Administration

50 CFR Part 648

[Docket No. 200730-0202; RTID 0648-XX062]

Fisheries of the Northeastern United States; Illex Squid Fishery; Revised 2020 Illex Squid Specifications

AGENCY: National Marine Fisheries Service (NMFS), National Oceanic and Atmospheric Administration (NOAA), Commerce.

ACTION: Temporary final rule.

SUMMARY: NMFS is increasing the specifications for the 2020 Illex squid fishery. This rule is required to ensure that the 2020 specifications are based on the best scientific information available. This rule is also intended to inform the public of the changes to increase the specifications for the remainder of the 2020 fishing year. This action will allow Illex squid fishery to benefit from the quota increase and achieve optimal yield.

DATES: Effective August 4, 2020, through December 31, 2020.

ADDRESSES: Copies of the revised specifications, including the Supplemental Information Report, and other supporting documents for the action, are available upon request from Dr. Christopher M. Moore, Executive Director, Mid-Atlantic Fishery Management Council, Suite 201, 800 N State Street, Dover, DE 19901. These documents are also accessible via the internet at http://www.mafmc.org.

FOR FURTHER INFORMATION CONTACT: Aly Pitts, Fishery Management Specialist, (978) 281-9352.

SUPPLEMENTARY INFORMATION:

Background

The Mid-Atlantic Fishery Management Council manages the Illex squid fishery under the Atlantic Mackerel, Squid, and Butterfish (MSB) Fishery Management Plan (FMP). Section 302(g)(1)(B) of the Magnuson-Stevens Fishery Conservation and Management Act (Magnuson-Stevens Act) states that the Scientific and Statistical Committee (SSC) for each regional fishery management council shall provide its Council ongoing scientific advice for fishery management decisions, including recommendations for acceptable biological catch (ABC), preventing overfishing, ensuring maximum sustainable yield, and achieving rebuilding targets. The ABC is a level of catch that accounts for the scientific uncertainty in the estimate of the stock's defined overfishing level (OFL). The regulations implementing the MSB FMP require the Council's MSB Monitoring Committee to develop specification recommendations for each species based upon the ABC advice of the Council's SSC. The regulations at 50 CFR 648.22(e) allow the Regional Administrator, in consultation with the Council, to adjust specifications during the fishing year.

At its May 2020 meeting, the Council's SSC reviewed preliminary work by its Illex Squid Working Group and concluded that the species continues to be lightly exploited and the fishery footprint is small relative to the entire management unit. The SSC recommended increasing the 2020 ABC from 26,000 mt to 30,000 mt. The Council recommended this specification adjustment at its June 2020 meeting.

On March 1, 2018, we published Illex squid specifications for 2018-2020 (83 FR 8764), and the National Environmental Policy Act (NEPA) analysis for that rule considered a range of ABCs from 18,000-30,000 mt, and the final rule adopted an ABC of 24,000 mt for 2019 and projected the same ABC for 2020. On February 27, 2020, we revised these specifications to implement a 26,000 mt ABC (85 FR 11309) for 2020 based on the SSC's updated recommendation. The revised specifications implemented by this temporary final rule increase the 2020 Illex squid ABC to 30,000 mt.

The changes to the initial 2020 Illex squid specifications included in this action were analyzed during the development of the original 2018-2020 specifications. A 30,000 mt ABC was included in the range of alternatives. The public had an opportunity to comment on the 30,000 mt ABC during the development of the original 2018-2020 Illex specifications. These revised specifications will increase the 2020 commercial quotas by 14 percent by implementing a 28,644-mt domestic annual harvest (DAH).

Revised Specifications

We are implementing the revised 2020 specifications recommended by the Council and its SSC. The Council recommended that the status quo discard rate of 4.52 percent be reduced from the ABC, which results in a DAH amount of 28,644 mt for 2020 that would be maintained for the 2020 fishing year. Table 1 summarizes the recommended changes to the revised 2020 Illex squid specifications. This action makes no changes to the current commercial management measures.

Table 1—2020 Illex Squid Specifications in metric tons
[mt]
| Current | Modified
OFL | Unknown | Unknown.
ABC | 26,000 | 30,000.
Initial Optimum Yield | 24,285 | 28,644.
DAH | 24,285 | 28,644.

Classification

Pursuant to section 304(b)(1)(A) of the Magnuson-Stevens Act, the NMFS Assistant Administrator has determined that this temporary final rule is consistent with the MSB FMP, the national standards and other provisions of the Magnuson-Stevens Act, and other applicable law.

This final rule is exempt from review under Executive Order 12866.

This temporary final rule does not duplicate, conflict, or overlap with any existing Federal rules.

This temporary final rule is exempt from the procedures of the Regulatory Flexibility Act because the rule is issued without opportunity for prior notice and opportunity for public comment.

The Assistant Administrator for Fisheries, NOAA, finds it is unnecessary and contrary to the public interest to provide for prior notice and an opportunity for public comment, pursuant to 5 U.S.C. 553(b)(B). This action increases the 2020 specifications (i.e., annual catch limits) for the Illex squid fishery based on new information, which is allowed pursuant to our regulatory in-season authority at 50 CFR 648.22(e). Implementing a 30,000-mt ABC was anticipated during development and implementation of the original specifications action (83 FR 8764, March 1, 2018), as well as at the June 2020 Council meeting. Where the public has had an opportunity to review a range of specifications that included the amount considered in this action, a delay in its effectiveness would not serve any legitimate purpose, while unnecessarily disadvantaging fishermen who wish to take advantage of the fishing opportunity that this action provides with increased quotas. A delay would be contrary to the public interest for this loss of potential economic opportunity, and it could also create confusion in the Illex squid fishery. This rule is being issued at the earliest possible date. We received the Council's Supplemental Information Report for this action on June 29, 2020. The revised specifications increase the quota and allow this predominantly summer fishery to benefit from the quota increase and achieve optimal yield. This rule should be effective as soon as possible to fully realize the intended benefits to the fishery.

Additionally, unlike actions that require an adjustment period to comply with new rules, Illex squid fishery participants will not be required to purchase new equipment or otherwise expend time or money to comply with these management measures. Rather, complying with this rule simply means adhering to the higher (less restrictive) catch limits set for the remainder of the Illex squid fishing year. Fishery stakeholders have been involved in the development of this action and are anticipating this rule. Therefore, there would be no added benefit to delaying the implementation of these specifications. For these reasons, a 30-day delay in effectiveness would be contrary to the public interest. As a result, we are waiving the requirement.

For the same reasons, the Assistant Administrator finds good cause under 5 U.S.C. 553(d)(3) to waive the 30-day delay in effectiveness and these specifications shall be made effective on August 4, 2020.

Authority: 16 U.S.C. 1801 et seq.

Dated: July 30, 2020.
Samuel D. Rauch III,
Deputy Assistant Administrator for Regulatory Programs, National Marine Fisheries Service.

[FR Doc. 2020-16937 Filed 8-3-20; 8:45 am]

BILLING CODE 3510-22-P